SMALL BUSINESS ADMINISTRATION

[Disaster Declaration #16000 and #16001; Ohio Disaster Number OH-00057]

Presidential Declaration Amendment of a Major Disaster for the State of Ohio

AGENCY: U.S. Small Business Administration.

ACTION: Amendment 1.

SUMMARY: This is an amendment of the Presidential declaration of a major disaster for the State of Ohio (FEMA-4447-DR), dated 06/18/2019.

Incident: Severe Storms, Straight-line Winds, Tornadoes, Flooding, and Landslides.

Incident Period: 05/27/2019 through 05/29/2019.

DATES: Issued on 07/02/2019.

Physical Loan Application Deadline Date: 08/19/2019.

Economic Injury (EIDL) Loan Application Deadline Date: 03/18/2020.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the President's major disaster declaration for the State of Ohio, dated 06/18/2019, is hereby amended to include the following areas as adversely affected by the disaster:

Primary Counties (Physical Damage and Economic Injury Loans): Mahoning.

Contiguous Counties (Economic Injury Loans Only):

Ohio: Columbiana, Portage, Stark, Trumbull.

Pennsylvania: Lawrence, Mercer.

All other information in the original declaration remains unchanged.

(Catalog of Federal Domestic Assistance Number 59008)

Rafaela Monchek,
Acting Associate Administrator for Disaster Assistance.

[FR Doc. 2019-14658 Filed 7-9-19; 8:45 am]

BILLING CODE 8026-03-P